DEPARTMENT OF TRANSPORTATION

Federal Railroad Administration

[Docket No. FRA 2000-7325]

Remote Control Locomotives; Establishing Guidelines

AGENCY: Federal Railroad Administration (FRA), Department of Transportation (DOT).

ACTION: Notice of technical conference.

SUMMARY: FRA is initiating a technical conference to examine the use of remote control locomotive operations in the railroad industry. FRA plans to hold a technical conference on July 19, 2000, to discuss the current status of remote operation and possible development of guidelines for remote operations with all interested parties. FRA is exploring the use of guidelines to provide consistent, safe, industry-wide remote control locomotive use.

DATES: 1. A technical conference will be held on July 19, 2000, beginning at 10 am.

2. The deadline to register for participation in the technical conference is close of business on July 12, 2000. Please see Public Participation Procedures in SUPPLEMENTARY INFORMATION section of this document for registration details.

ADDRESSES: 1.Technical conference: FRA Headquarters, 7th floor, conference rooms 1 and 2, 1120 Vermont Ave. NW, Washington DC.

2. FRA Docket Clerk: Federal Railroad Administration Docket Clerk, Office of Chief Counsel, Mail Stop 10, 1120 Vermont Ave. NW, Washington DC, 20590. E-mail address for the FRA Docket Clerk is renee.bridgers@fra.dot.gov.

FOR FURTHER INFORMATION CONTACT: S. Joseph Gallant, Operating Practices Specialist, FRA Office of Safety, Mail Stop 25, 1120 Vermont Ave. NW, Washington DC, 20590 (telephone: 202-493-6324), or Alan H. Nagler, Trial Attorney, FRA Office of Chief Counsel, Mail Stop 10, 1120 Vermont Ave. NW, Washington DC, 20590 (telephone: 202-493-6055).

SUPPLEMENTARY INFORMATION:

Background

Locomotives operated by use of remote control devices have been in use for a number of years. The term “remotely controlled locomotives” or “remote control locomotives” refers to a locomotive which, through use of a radio transmitter and receiver system, can be operated by a person while not physically within the confines of the locomotive cab. (As used in this notice, the term “remote control locomotive” (RCL) does not refer to use of distributive power, in which a locomotive or group of locomotives entrained or at the rear of a train is controlled by an engineer located in another locomotive within the same consist.) Although RCL operations are common place in steel mills, plant railroads and Canadian railroad systems, RCL operations have not been widely used by American railroads that are part of the general system of transportation.

Arguably, the RCL technology is still relatively new. In 1994, FRA proposed a nation-wide test of rail operations involving remotely controlled locomotives. 59 FR 59826 (Nov. 18, 1994). FRA published proposed interim guidelines for what was intended to be a two-year test period. 59 FR 59826, 59828-29 (Nov. 18, 1994). FRA stated that guidelines were necessary

to assure that continued use of this new technology does not create a safety risk to railroad employees or the public. FRA also does not want to hinder the development of new technologies which may be of benefit to the rail industry. * * * All railroads using such remote-control systems will be permitted to continue using such systems only if they participate in the long-term test, so that FRA can evaluate remote control operations in light of the regulatory and statutory obligations imposed upon all railroads.

59 FR at 59827 (Nov. 18, 1994). On February 23, 1995, FRA held a public hearing to gather testimony on remote control operating procedures. Several manufacturers, labor organizations, railroads and their associations participated in the hearing. The testimony provided by these organizations revealed a broad spectrum of opinion concerning the merits of the program, the substance of the program requirements, the risks associated with railroad employees and the safety of the technology. While information and opinions gathered at this meeting were helpful, FRA never took final agency action to implement guidelines and the test program never occurred. Instead, FRA has continued to review RCL operations on a case-by-case basis.

Recently, FRA has become aware of renewed interest in RCL operations. This interest has led to an increased number of questions concerning FRA's position with respect to those operations and particular types of RCL devices. Additionally, RCL technology and operating procedures continue to evolve. FRA believes that it would be prudent to re-examine the safety issues surrounding RCL operations at this time and consider whether to issue guidelines.

Technical Conference

The purpose of this technical conference is to determine the extent of RCL operations, the various purposes for which RCL technology is used, and the safety of these operations. FRA will examine all the pertinent safety aspects of RCL operations, including: (1) design standards, e.g., weight, size and ergonomic considerations; (2) employee training, e.g., hands-on training considerations; (3) operating practices and procedures, including but not limited to standard operating procedures, safety rule modifications, and railroad operating plans; (4) test and inspection procedures, including but not limited to electric and magnetic field emissions; (5) security and reporting issues, including but not limited to recordkeeping and notification to FRA concerning all RCL accidents and incidents. FRA requests that interested parties share their views regarding the use of consistent and safe RCL operations. FRA encourages comments on all aspects of RCL use. A transcript of the technical conference will be taken and placed in the public docket of this proceeding.

Public Participation Procedures

Any person wishing to participate in the technical conference should notify the FRA Docket Clerk by mail or by e-mail by close of business on July 12, 2000. The notification of intent to participate should identify the organization, the person represents (if any), the names of all participants from that organization planning to participate, and a phone number at which the registrant can be reached. FRA reserves the right to limit active conference participation to those persons who have registered in advance.

(Authority: 49 U.S.C. 103, 20103-04, 20106-08, 20135 and 20701-03)

Issued in Washington, DC on May 9, 2000.
George Gavalla,
Associate Administrator for Safety.

[FR Doc. 00-12110 Filed 5-12-00; 8:45 am]

BILLING CODE 4910-06-P